DEPARTMENT OF THE INTERIOR

National Park Service

[NPS-SERO-FORA-30058; PS.SPPFL0080.00.1]

Boundary Adjustment at Fort Raleigh National Historic Park

AGENCY: National Park Service, Interior.

ACTION: Notification of boundary adjustment.

SUMMARY: The boundary of Fort Raleigh National Historic Park is adjusted to include two parcels of land totaling 2.80 acres, more or less. The fee simple interest in 2.32 acres and a perpetual easement for ingress and egress in the adjoining 0.48 of an acre parcel will be donated to the United States by the North Carolina Coastal Land Trust. These properties are located in Dare County, North Carolina.

DATES: The effective date of this boundary adjustment is September 17, 2020.

ADDRESSES: The map depicting this boundary adjustment is available for inspection at the following locations: National Park Service, Land Resources Program Center, Interior Region 2, 1924 Building, Fifth Floor, 100 Alabama Street SW, Atlanta, GA 30303-8701, and National Park Service, Department of the Interior, 1849 C Street NW, Washington, DC 20240.

FOR FURTHER INFORMATION CONTACT: Chief Realty Officer John Danner, National Park Service, Land Resources Program Center, Interior Region 2, 1924 Building, Fifth Floor, 100 Alabama Street SW, Atlanta, GA 30303-8701; telephone (404) 507-5657; email john_danner@nps.gov.

SUPPLEMENTARY INFORMATION: Notice is hereby given that, pursuant to 54 U.S.C. 100506 (c)(1)(B), as amended, the boundary of Fort Raleigh National Historic Park is adjusted to include two properties totaling 2.80 acres of land in Dare County, North Carolina: 2.32 acres in fee-simple are identified as Tract No. 01-124 and 0.48 of an acre in perpetual easement for ingress and egress is identified as Tract No. 01-125. This boundary adjustment is depicted on Map No. 383/142,840 dated February, 2019.

Specifically, 54 U.S.C. 100506 (c)(1)(B), as amended, states that the Secretary of the Interior may make adjustments to the boundary of Fort Raleigh National Historic Park by publication of the amended description thereof in the Federal Register. The Committees have been notified of this boundary revision. This boundary revision and subsequent acquisition of Tract Nos. 01-124 & 01-125 will support the National Park Service's mission of preserving the natural landscape and rich history of Roanoke Island and will offer park visitors a wide range of recreational opportunities.

Lance Hatten,
Acting Regional Director, Interior Region 2.

[FR Doc. 2020-20546 Filed 9-16-20; 8:45 am]

BILLING CODE 4312-52-P